DEPARTMENT OF HOMELAND SECURITY

[Docket No. CISA-2024-0012]

Agency Information Collection Activities: Infrastructure Visualization Platform (IVP) Pre-Collection Questionnaire

AGENCY: Cybersecurity and Infrastructure Security Agency (CISA), Department of Homeland Security (DHS).

ACTION: 60-Day notice and request for comments; new collection request of information, 1670-NEW.

SUMMARY: DHS CISA Infrastructure Security Division (ISD), Resilience Services Branch (RSB) submits the following Information Collection Request (ICR) to the Office of Management and Budget (OMB) for review and clearance.

DATES: Comments are encouraged and will be accepted until July 22, 2024.

ADDRESSES: You may submit comments, identified by docket number CISA-2024-0012, at:

○ Federal eRulemaking Portal: http://www.regulations.gov. Please follow the instructions for submitting comments.

Instructions: All submissions received must include the words “Department of Homeland Security” and docket number for this action. Comments received will be posted without alteration at http://www.regulations.gov, including any personal information provided.

Docket: For access to the docket to read background documents or comments received, please go to http://www.regulations.gov.

Comments submitted in response to this notice may be made available to the public through relevant websites. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: Jonathan Moaikel, jonathan.moaikel.cisa.dhs.gov, 202-251-5276.

SUPPLEMENTARY INFORMATION: CISA's ISD supports the homeland security mission of critical infrastructure security. As part of this mission, CISA Protective Security Advisors (PSAs) conduct various critical infrastructure security assessments for various stakeholders including facility owners and operators; federal, state, and local law enforcement officials; emergency response personnel; and others.

One type of assessment PSAs can perform is an Infrastructure Visualization Platform (IVP). IVPs integrate high-resolution, interactive visual data as well as additional assessment information. For a PSA to conduct an assessment, each stakeholder must complete an IVP Pre-Collection Questionnaire. When the form is completed and submitted, the IVP team can better plan for the assessment by reviewing locations designated as Areas of Emphasis (AOEs) to ensure those areas receive an assessment, to know who appropriate points of contact are (stakeholder requesting and escort who will be with the team during the collect), and to address special considerations prior to showing up for the collect.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Cybersecurity and Infrastructure Security Agency (CISA), Department of Homeland Security (DHS).

Title of Collection: Infrastructure Visualization Platform (IVP) Pre-Collection Questionnaire.

OMB Control Number: 1670-NEW.

Frequency: Annually.

Affected Public: State, local, Tribal, and Territorial Governments and Private Sector Individuals.

Number of Respondents: 120.

Estimated Time per Respondent: 30 minutes.

Total Burden Hours: 60 hours.

Annualized Respondent Cost: $2,527.00.

Total Annualized Respondent Out-of-Pocket Cost: $0.

Total Annualized Government Cost: $2,576.00.

Robert J. Costello,
Chief Information Officer, Department of Homeland Security, Cybersecurity and Infrastructure Security Agency.

[FR Doc. 2024-11133 Filed 5-20-24; 8:45 am]

BILLING CODE 9111-LF-P